DEPARTMENT OF THE INTERIOR

National Park Service

[NPS-WASO-NRNHL-DTS#-26860; PPWOCRADI0, PCU00RP14.R50000]

National Register of Historic Places; Notification of Pending Nominations and Related Actions

AGENCY: National Park Service, Interior.

ACTION: Notice.

SUMMARY: The National Park Service is soliciting comments on the significance of properties nominated before October 20, 2018, for listing or related actions in the National Register of Historic Places.

DATES: Comments should be submitted by November 20, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before October 20, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Pima County

Catalina Foothills Estates Job No. 399 House (Single Family Residential Architecture of Josias Joesler and John and Helen Murphey MPS) 4950 N Calle Colmado, Tucson, MP100003145

CONNECTICUT

Litchfield County

Burrall—Belden House, 6 Barnes Rd., Canaan, SG100003146

Middlesex County

Carter, Hubbell House, 2 Carter Hill Rd., Clinton, SG100003147

New Haven County

Dixwell Avenue Congregational United Church of Christ, 217 Dixwell Ave., New Haven, SG100003148

DISTRICT OF COLUMBIA

District of Columbia

Petworth Branch Library, 4200 Kansas Ave. NW, Washington, SG100003149

Harbour Square, 400-560 (even) N St. SW, 1301-1327 (odd) 4th St. SW, Washington, SG100003158

MARYLAND

Frederick County

Cockey's House and Store, 3409 Urbana Pike, Urbana, SG100003151

NEW YORK

Delaware County

Hamden District No. 1 School, 5594 E River Rd., Hawleys vicinity, SG100003152

Niagara County

Bewley Building, 4 Market St., Lockport, SG100003153

TENNESSEE

Davidson County

Rainbow Ranch, 312 E Marthona Rd., Madison, SG100003154

Smith—Carter House, 1020 Gibson Dr., Madison, SG100003155

Marion County

Whitwell Cumberland Presbyterian Church, 876 Main St., Whitwell, SG100003156

Stewart County

Maple Grove Farm (Historic Family Farms in Middle Tennessee MPS), 544 Long Creek Rd., Dover, MP100003157

Union County

Oak Grove School, 410 Brantley Rd., Sharps Chapel, SG100003161

WISCONSIN

Ozaukee County

Port Washington North Breakwater Light (Light Stations of the United States MPS), 550 E Jackson St., Port Washington, MP100003160

In the interest of preservation, a SHORTENED comment period has been requested for the following resource:

GEORGIA

Fulton County

Meredith, Kenneth and Hazel House, 417 Hillside Dr. NW, Atlanta, SG100003150, Comment period: 3 days

Authority: Section 60.13 of 36 CFR part 60.

Dated: October 22, 2018.
Christopher Hetzel,
Acting Chief, National Register of Historic Places/National Historic Landmarks Program.

[FR Doc. 2018-24142 Filed 11-2-18; 8:45 am]

BILLING CODE 4312-52-P